FEDERAL COMMUNICATIONS COMMISSION

47 CFR Part 73

[DA 01-1768, MM Docket No. 01-162, RM-10183]

Digital Television Broadcast Service; Cocoa, FL

AGENCY: Federal Communications Commission.

ACTION: Proposed rule.

SUMMARY: The Commission requests comments on a petition filed by Good Like Broadcasting, Inc. licensee of station WTGL-TV, NTSC channel 52, Cocoa, Florida, requesting the substitution of DTV 53 for DTV channel 51. DTV channel 53c can be allotted to Cocoa, Florida, in compliance with the principal community coverage requirements of § 73.625(a) at reference coordinates (28-35-12 N. and 81-04-58 W.). As requested, we propose to allot DTV Channel 53c to Cocoa with a power of 13.0 and a height above average terrain (HAAT) of 514 meters.

DATES: Comments must be filed on or before September 17, 2001, and reply comments on or before October 2, 2001.

ADDRESSES: Federal Communications Commission, 445 12th Street, SW., Room TW-A325, Washington, DC 20554. In addition to filing comments with the FCC, interested parties should serve the petitioner, or its counsel or consultant, as follows: Sally A. Buckman, Leventhal, Senter & Lerman PLLC, Suite 600, 2000 K Street, NW, Washington, DC 20006-1809 (Counsel for Good Life Broadcasting, Inc.).

FOR FURTHER INFORMATION CONTACT: Pam Blumenthal, Mass Media Bureau, (202) 418-1600.

SUPPLEMENTARY INFORMATION: This is a synopsis of the Commission's Notice of Proposed Rule Making, MM Docket No. 01-162, adopted July 24, 2001, and released July 27, 2001. The full text of this Commission decision is available for inspection and copying during normal business hours in the FCC Reference Center, 445 12th Street, SW., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Florida is amended by removing DTV Channel 51 and adding DTV Channel 53c at Cocoa.

Federal Communications Commission.
Barbara A. Kreisman,
Chief, Video Services Division, Mass Media Bureau.

[FR Doc. 01-19144 Filed 7-31-01; 8:45 am]

BILLING CODE 6712-01-U